DEPARTMENT OF THE INTERIOR

Bureau of Reclamation

American Basin Fish Screen and Habitat Improvement Project, Sacramento River, California

AGENCY: Bureau of Reclamation, Interior.

ACTION: Notice of intent to prepare an environmental impact statement/ environmental impact report and notice of scoping meeting.

SUMMARY: Pursuant to the National Environmental Policy Act (NEPA) of 1969 as amended, the Bureau of Reclamation (Reclamation) proposes to participate in a joint Environmental Impact Statement/Environmental Impact Report (EIS/EIR) on the American Basin Fish Screen and Habitat Improvement Project (ABFS). The ABFS is being proposed by the Natomas Mutual Water Company (NMWC), a private mutual water company. The California Department of Fish and Game (CDFG) will be the lead agency under the California Environmental Quality Act (CEQA). The purpose of the ABFS is to improve passage conditions for migratory fish species in segments of the lower Sacramento River and Natomas Cross Canal adjacent to the American Basin, to improve aquatic and riparian habitat conditions in the project area, and to prevent entrainment of resident and migratory fish species in unscreened water diversions.

DATES: A public scoping meeting will be held on November 20, 2003, from 6:30 to 8:30 p.m. in Sacramento, California.

Written comments on the project scope should be sent to the ABFS at the address below by December 4, 2003.

ADDRESSES: The public scoping meeting will be held at the Residence Inn by Marriott, located in the South Natomas area of Sacramento, at 2410 West El Camino Avenue.

Written comments on the project scope should be sent to the American Basin Fish Screen and Habitat Improvement Project, c/o Stephen Sullivan, Mead & Hunt, Inc., 3327 Longview Drive, Suite 100, North Highlands, CA 95660.

FOR FURTHER INFORMATION CONTACT: John Robles, Environmental Specialist with the Bureau of Reclamation at (916) 978-5050 or James Navicky, Environmental Scientist with California Department of Fish and Game at (916) 358-2030.

SUPPLEMENTARY INFORMATION: NMWC is a private mutual water company subject to local land use controls, including those of Sacramento and Sutter counties and the City of Sacramento. The service area of the NMWC includes the entire Natomas Basin, and NMWC controls surface water rights for over 280 landowners within the 55,000-acre Natomas Basin. NMWC diverts water from the Sacramento River [generally between River Mile (RM) 79 and RM 61] and the Natomas Cross Canal to provide irrigation water for agricultural uses and habitat preservation.

NMWC currently maintains five pumping plants along the Sacramento River and the Natomas Cross Canal. These pumping plants divert surface water from the Sacramento River and Natomas Cross Canal into the NMWC service area. The five pumping plants maintain a total maximum water diversion capacity of 630 cubic feet per second (cfs). There are also several local landowners within the Natomas Basin that are diverting irrigation water from the Sacramento River into the Natomas Basin through small privately owned pumps.

Drainage and flood control for the Natomas Basin is provided by Reclamation District 1000 (RD 1000), a public agency that has a coinciding service area with the NMWC and several joint use facilities.

Irrigation water is distributed primarily throughout the service area using NMWC's system of highline canals. NMWC also uses the RD 1000 drainage canal system to distribute water within the service area. Sacramento River water is pumped into the drainage canal system to be commingled with tailwater. This water is then relifted into the highline canal system or delivered directly into the fields.

The ABFS is necessary to avoid and/or minimize potentially adverse effects to at-risk fish species, including listed and proposed species, that inhabit or otherwise use these watercourses during various life stages, and to ensure the reliability of NMWC's water diversion and distribution facilities so that water supplies for agricultural use, habitat preservation, and habitat maintenance, including winter flooded waterfowl habitat, will continue. The habitat created through the operation of NMWC irrigation facilities provides habitat for at-risk species such as the state and federally-listed giant garter snake and the state-listed Swainson's hawk, as well as other species. Seasonal flooding of rice fields for rice straw decomposition provides wetland habitat for various local and migratory waterfowl.

The ABFS has been developed to address concerns regarding the health of local fish species. At various times of the year and various life stages, the lower Sacramento River and Natomas Cross Canal are inhabited by numerous fish species, including such state and federally-listed species as the winter-run chinook salmon, spring-run chinook salmon, Central Valley steelhead, Sacramento splittail, delta smelt, and other at-risk species. These fish species, particularly anadromous salmonids (those fish that live as adults in salt water and spawn in fresh water) use the Sacramento River and Natomas Cross Canal as part of their migration corridor for upstream migration of spawning adults and downstream migration of rearing juveniles. Many of the fish species of concern that use these rivers have declined in population during the last few decades as a result of various stress factors.

The ABFS would maintain the existing NMWC diversion capacity of 630 cfs, and include the following improvements to NMWC facilities under all action alternatives:

• Decommissioning and removal of the existing Verona Diversion Dam and lift pumps;

• Removing the five pumping plants (two along the Natomas Cross Canal and three along the Sacramento River) and several small diversions operated by local landowners;

• Constructing one, or two new diversion facilities with fish screens;

• Modifications to the distribution system, including regrading of existing canals and drains, the construction of new irrigation canals and drains, and modifications to drainage canals to redistribute flows from the new diversion locations;

• Additional capacity for the internal relift pumps at RD 1000 Pumping Plant No. 3 in place of the removed Riverside Pumping Plant;

• Regrading the Riverside Main Highline Canal from RD 1000 Pumping Plant No. 3 to the existing Riverside Pumping Plant;

• Upgrading of two control structures, the County Line Check and Lift Pump and the Elkhorn Check and Lift Pumps;

• Regrading the North Drainage Canal from the V drain to Highway 99 in order to improve conveyance;

• Regrading the Elkhorn Main Highline Canal between the existing Prichard Pumping Plant and the existing Elkhorn Pumping Plant; and,

• Additional modifications to the distribution system based on which diversion facilities are constructed.

The EIS/EIR will consider a range of alternatives including the no-action alternative.

Scoping is an early and open process designed to determine the issues and alternatives to be addressed in the EIS/EIR. The following are items to be addressed that have been identified to date: Aesthetics/Visual Quality; Agricultural Resources; Air Quality; Biological Resources (Terrestrial and Aquatic Biology); Cultural Resources; Geology and Soils; Hazards and Hazardous Materials; Hydrology and Water Quality; Land Use; Noise; Transportation and Circulation; Environmental Justice; Indian Trust Assets; Cumulative Impacts; and Construction Effects.

The draft EIS/EIR will focus on the impacts and benefits of implementing the various alternatives. It will contain an analysis of the physical, biological, social, and economic impacts arising from the alternatives. In addition, it will address the cumulative impacts of implementation of the alternatives in conjunction with other past, present, and reasonably foreseeable actions.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 16, 2003.
Frank Michny,
Regional Environmental Officer, Mid-Pacific Region.

[FR Doc. 03-26621 Filed 10-21-03; 8:45 am]

BILLING CODE 4310-MN-P